DEPARTMENT OF HEALTH AND HUMAN SERVICES

National Institutes of Health

Office of Technology Transfer; Notice of meetings

ACTION: Notice of meetings.

SUMMARY: Notice is hereby given that the Office of Intramural Research (OIR), National Institutes of Health (NIH), will host two webinars to enable public discussion of its proposal to reorganize the OIR Office of Technology Transfer (OTT). The proposal seeks to align authority and responsibility for the implementation and execution of patenting and licensing (P&L) functions within the NIH Institutes and Centers.

DATES: The first webinar will be held on February 13th from 9:30 to 10:00 a.m. The second webinar will be held on February 13th from 10:00 to 10:30 a.m. Members of the public wishing to join a webinar must register via the webinar link provided. Any interested person may also file written comments by sending an email to Deborah Kassilke, kassilked@mail.nih.gov by Tuesday, February 17th, 2015. The written comment should include the commenter's name and, when applicable, professional affiliation.

ADDRESSES: Session 1: February 13, 2015 from 9:30 to 10:00 a.m. https://nih.webex.com/nih/j.php?MTID=m2a6eb40ebe096afad861f0b5e941f9bc.

Session 2: February 13, 2015 from 10:00 to 10:30 a.m. https://nih.webex.com/nih/j.php?MTID=m8c50a9e8b5454a39b4fa24d9df412fab.

FOR FURTHER INFORMATION CONTACT: Deborah Kassilke, kassilked@mail.nih.gov, 301-435-2950.

SUPPLEMENTARY INFORMATION: The background of the proposed OTT reorganization is as follows.

The Advisory Committee to the NIH Deputy Director for Intramural Research, and the Technology Transfer Steering Committee (TTSC) recently assessed OTT to determine how it services the overall technology transfer needs of the NIH. The committees recommended that the authority and responsibility for the implementation and execution of patenting and licensing should be decentralized from OTT and distributed throughout the NIH Institutes and Centers (ICs). In September 2014, the NIH Steering Committee accepted this recommendation.

Dated: January 27, 2015.
Lawrence Tabak,
Principal Deputy Director, National Institutes of Health.

[FR Doc. 2015-01964 Filed 1-30-15; 8:45 am]

BILLING CODE 4140-01-P